DEPARTMENT OF THE INTERIOR

National Park Service

[NPS-WASO-NAGPRA-NPS0036127; PPWOCRADN0-PCU00RP14.R50000]

Notice of Inventory Completion: South Carolina Institute of Archaeology and Anthropology, University of South Carolina, Columbia, SC

AGENCY: National Park Service, Interior.

ACTION: Notice.

SUMMARY: In accordance with the Native American Graves Protection and Repatriation Act (NAGPRA), the South Carolina Institute of Archaeology and Anthropology (SCIAA) has completed an inventory of associated funerary objects and has determined that there is a cultural affiliation between the associated funerary objects and Indian Tribes or Native Hawaiian organizations in this notice. The associated funerary objects were removed from Lancaster County, SC.

DATES: Repatriation of the associated funerary objects in this notice may occur on or after August 7, 2023.

ADDRESSES: Nina Schreiner, South Carolina Institute of Archaeology and Anthropology (SCIAA), College of Arts and Sciences, University of South Carolina, 1321 Pendleton Street, Columbia, SC 29208, email Schreinn@email.sc.edu.

SUPPLEMENTARY INFORMATION: This notice is published as part of the National Park Service's administrative responsibilities under NAGPRA. The determinations in this notice are the sole responsibility of SCIAA. The National Park Service is not responsible for the determinations in this notice. Additional information on the determinations in this notice, including the results of consultation, can be found in the inventory or related records held by SCIAA.

Description

In 1965, Mr. John R. Hart of York, SC, removed human remains belonging to one individual and 81 associated funerary objects from a “Historic Catawba Burial, near Van Wyck” in Lancaster County, SC. In 1981, following Mr. Hart's death, his son, Mr. John R. Hart III, donated these human remains and associated funerary objects to SCIAA. On January 12, 2023, this individual and 79 of the associated funerary objects were listed in a Notice of Inventory Completion published in the Federal Register (88 FR 2127-2128) and have been repatriated. Subsequently, two additional funerary objects associated with this individual were discovered in SCIAA collections. They are one lot consisting of soil matrix and one lot consisting of lithic objects.

Cultural Affiliation

The associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and historical.

Determinations

Pursuant to NAGPRA and its implementing regulations, and after consultation with the appropriate Indian Tribes and Native Hawaiian organizations, SCIAA has determined that:

• The two objects described in this notice are reasonably believed to have been placed with or near individual human remains at the time of death or later as part of the death rite or ceremony.

• There is a relationship of shared group identity that can be reasonably traced between the associated funerary objects described in this notice and the Catawba Indian Nation.

Requests for Repatriation

Written requests for repatriation of the associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after August 7, 2023. If competing requests for repatriation are received, SCIAA must determine the most appropriate requestor prior to repatriation. Requests for joint repatriation of the associated funerary objects are considered a single request and not competing requests. SCIAA is responsible for sending a copy of this notice to the Indian Tribe identified in this notice.

Authority: Native American Graves Protection and Repatriation Act, 25 U.S.C. 3003, and the implementing regulations, 43 CFR 10.9, 10.10, and 10.14.

Dated: June 28, 2023.
Melanie O'Brien,
Manager, National NAGPRA Program.

[FR Doc. 2023-14383 Filed 7-6-23; 8:45 am]

BILLING CODE 4312-52-P